COMMODITY FUTURES TRADING COMMISSION

Financial Education Content Needs Survey

AGENCY: Commodity Futures Trading Commission, Office of Consumer Outreach.

ACTION: Notice.

SUMMARY: The Commodity Futures Trading Commission (“CFTC” or “Commission”) is announcing an opportunity for public comment on a proposed collection of information by the agency. Under the Paperwork Reduction Act (“PRA”), Federal agencies are required to publish notice in the Federal Register concerning each proposed collection of information and to allow 60 days for public comment. The Commission's Office of Consumer Outreach would like to distribute a survey designed to collect data from employees at organizations that provide financial education information to their constituents. The information collected will assist the CFTC's Office of Consumer Outreach in determining how to provide its financial education content to these employees and organizations. This notice solicits comments on the reporting requirements that are part of the proposed survey.

DATES: Comments must be received on or before December 31, 2012.

ADDRESSES: You may submit comments, regarding the burden estimated or any other aspect of the information collection, including suggestions for reducing the burden, by any of the following methods:

• Agency Web site, via its Comments Online process: http://comments.cftc.gov. Follow the instructions for submitting comments through the Web site.

• Mail: Send to Sauntia Warfield, Assistant Secretary, Commodity Futures Trading Commission, 1155 21st Street NW., Washington, DC 20581.

• Hand delivery/Courier: Same as Mail above.

• Federal eRulemaking Portal: http://www.regulations.gov/search/index.jsp. Follow the instructions for submitting comments.

Please submit your comments using only one method.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹

¹ 17 CFR 145.9.

The Commission reserves the right, but shall have no obligation, to review, pre-screen, filter, redact, refuse or remove any or all of your submission from http://www.cftc.gov that it may deem to be inappropriate for publication, such as obscene language. All submissions that have been redacted or removed that contain comments on the merits of the rulemaking will be retained in the public comment file and will be considered as required under the Administrative Procedure Act and other applicable laws, and may be accessible under the Freedom of Information Act.

FOR FURTHER INFORMATION CONTACT: Nisha Smalls, Consumer Education & Outreach Specialist, 202-418-5000, consumers@cftc.gov, Office of Consumer Outreach, Commodity Futures Trading Commission, Three Lafayette Centre, 1151 21st Street NW., Washington, DC 20581.

SUPPLEMENTARY INFORMATION: Under the PRA, federal agencies must obtain approval from the Office of Management and Budget (“OMB”) for each collection of information they collect or sponsor. “Collection of information” is defined in 44 U.S.C. 3502(3) as “the obtaining, causing to be obtained, soliciting * * * facts or opinions by or for any agency, regardless of form or format [from] ten or more persons.” An agency may not conduct or sponsor, and a person is not required to respond to, a collection of information unless it displays a valid OMB control number.

Section 3506(c)(2)(A) of the PRA, 44 U.S.C. 3506(c)(2)(A), requires federal agencies to provide a 60-day notice in the Federal Register for each proposed collection of information before submitting the collection to OMB for approval. Under OMB regulations, which implement provisions of the PRA, certain “facts or opinions that are submitted in response to a general solicitation of comments from the public, published in the Federal Register or other publications,” 5 CFR 1320.3(h)(4), or “facts or opinions obtained or solicited at or in connection with public hearings or meetings,” 5 CFR 1320.3(h)(8), are excluded from the OMB approval process. The Federal Register notice with a 60-day comment period soliciting comments on this collection of information was published on August 16, 2012 (77 FR 49428). The Commission received no comments on this collection of information.

In accordance with 7 U.S.C. 26, the CFTC is posing survey questions to the public. Questions included in the survey will inquire as to how often the respondents would like to receive content from CFTC, the format in which the respondents would like to receive information, and the topics the information should cover.

The Office of Consumer Outreach develops campaigns to change consumer behaviors, so that consumers can better avoid fraud as defined under the Commodities Exchange Act. The first campaign from the Office of Consumer Outreach involves utilizing government and non-profit agency distribution methods to provide anti-fraud information to consumers. This survey will assist the Office of Consumer Outreach in determining how the government and non-profit agencies would like to receive the anti-fraud information from the CFTC. The respondent burden for this collection is estimated to be 10 minutes per response. This estimate includes the time to prepare the written or electronic survey and transmit it to the Commission. The Commission estimates the average burden of this collection of information as follows:

Estimated Annual Reporting Burden Hours
17 CFR | Annual 500 | Frequency 1 response per respondent | Hours per 10 minutes per response Cost is $0 | Total 500 | 83.3 hours $0.
17 CFR | 500 | At this time only one response is required | 10 minutes | 500 | $0.

Issued by the Commission this 25th day of October 2012.
Sauntia S. Warfield,
Assistant Secretary of the Commission.

[FR Doc. 2012-26625 Filed 10-29-12; 8:45 am]

BILLING CODE 6351-01-P